DEPARTMENT OF ENERGY

Office of Energy Efficiency and Renewable Energy

[Case No. DW-006]

Notice of Petition for Waiver of Miele, Inc. From the Department of Energy Residential Dishwasher Test Procedure, and Grant of Interim Waiver

AGENCY: Office of Energy Efficiency and Renewable Energy, Department of Energy.

ACTION: Notice of petition for waiver, notice of grant of interim waiver, and request for comments.

SUMMARY: This notice announces receipt of and publishes the Miele, Inc. (Miele) petition for waiver from specified portions of the U.S. Department of Energy (DOE) test procedure for determining the energy consumption of dishwashers. Today's notice also grants an interim waiver of the dishwasher test procedure. Through this notice, DOE also solicits comments with respect to the Miele petition.

DATES: DOE will accept comments, data, and information with respect to the Miele petition until, but no later than November 17, 2011.

ADDRESSES: You may submit comments, identified by case number DW-006, by any of the following methods:

• Federal eRulemaking Portal: http://www.regulations.gov. Follow the instructions for submitting comments.

• E-mail: AS_Waiver_Requests@ee.doe.gov. Include the case number [Case No. DW-006] in the subject line of the message.

• Mail: Ms. Brenda Edwards, U.S. Department of Energy, Building Technologies Program, Mailstop EE-2J, Petition for Waiver Case No. DW-006, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Docket: For access to the docket to review the background documents relevant to this matter, you may visit the U.S. Department of Energy, 950 L'Enfant Plaza, SW., (Resource Room of the Building Technologies Program), Washington, DC 20024; (202) 586-2945, between 9 a.m. and 4 p.m., Monday through Friday, except Federal holidays. Available documents include the following items: (1) This notice; (2) public comments received; (3) the petition for waiver and application for interim waiver; and (4) prior DOE rulemakings and waivers regarding similar dish washers. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: Michael.Raymond@ee.doe.gov.

Ms. Elizabeth Kohl, U.S. Department of Energy, Office of the General Counsel, Mail Stop GC-71, Forrestal Building, 1000 Independence Avenue, SW., Washington, DC 20585-0103. Telephone: (202) 586-7796. E-mail: Elizabeth.Kohl@hq.doe.gov.

SUPPLEMENTARY INFORMATION:

I. Background and Authority

Title III, Part B of the Energy Policy and Conservation Act of 1975 (EPCA), Public Law 94-163 (42 U.S.C. 6291-6309, as codified) established the Energy Conservation Program for Consumer Products Other Than Automobiles, a program covering most major household appliances, which includes dishwashers.¹ Part B includes definitions, test procedures, labeling provisions, energy conservation standards, and the authority to require information and reports from manufacturers. Further, Part B authorizes the Secretary of Energy to prescribe test procedures that are reasonably designed to produce results which measure energy efficiency, energy use, or estimated operating costs, and that are not unduly burdensome to conduct. (42 U.S.C. 6293(b)(3)) The test procedure for dishwashers is contained in 10 CFR part 430, subpart B, appendix C.

¹ For editorial reasons, upon codification in the U.S. Code, Part B was re-designated Part A.

The regulations set forth in 10 CFR part 430.27 contain provisions that enable a person to seek a waiver from the test procedure requirements for covered consumer products. A waiver will be granted by the Assistant Secretary for Energy Efficiency and Renewable Energy (the Assistant Secretary) if it is determined that the basic model for which the petition for waiver was submitted contains one or more design characteristics that prevents testing of the basic model according to the prescribed test procedures, or if the prescribed test procedures may evaluate the basic model in a manner so unrepresentative of its true energy consumption characteristics as to provide materially inaccurate comparative data. 10 CFR part 430.27(l). Petitioners must include in their petition any alternate test procedures known to the petitioner to evaluate the basic model in a manner representative of its energy consumption. 10 CFR part 430.27(b)(1)(iii). The Assistant Secretary may grant the waiver subject to conditions, including adherence to alternate test procedures. 10 CFR part 430.27(l). Waivers remain in effect pursuant to the provisions of 10 CFR part 430.27(m).

The waiver process also allows the Assistant Secretary to grant an interim waiver from test procedure requirements to manufacturers that have petitioned DOE for a waiver of such prescribed test procedures. 10 CFR part 430.27(a)(2) An interim waiver remains in effect for 180 days or until DOE issues its determination on the petition for waiver, whichever is sooner. An interim waiver may be extended for an additional 180 days. 10 CFR part 430.27(h)

II. Petition for Waiver

On July 19, 2011, Miele filed a petition for waiver and application for interim waiver from the test procedure applicable to dishwashers set forth in 10 CFR part 430, subpart B, appendix C. Miele has designed new dishwashers that run on an electrical supply voltage of 208 volts. The existing test procedure under Title 10 of the Code of Federal Regulations 430.23(c) has provisions for testing at 115 and 240 volts only. The electrical supply voltage of 208 volts prevents testing these dishwashers according to the DOE test procedure. The only modification needed to the test procedure is to provide for testing with a 208 volt electrical supply.

III. Application for Interim Waiver

Miele also requests an interim waiver for particular basic models with integrated water softeners. An interim waiver may be granted if it is determined that the applicant will experience economic hardship if the application for interim waiver is denied, if it appears likely that the petition for waiver will be granted, and/or the Assistant Secretary determines that it would be desirable for public policy reasons to grant immediate relief pending a determination of the petition for waiver. (10 CFR part 430.27(g))

DOE determined that Miele's application for interim waiver does not provide sufficient market, equipment price, shipments, and other manufacturer impact information to permit DOE to evaluate the economic hardship Miele might experience absent a favorable determination on its application for interim waiver. DOE understands, however, that the current test procedure does not allow for testing a dishwasher with a 208 volt electrical supply and that the simple addition of a provision for testing with a 208 volt electrical supply is the only modification necessary to allow Miele's product to be tested.

This petition for waiver is likely to be successful because it requests a simple change which will allow testing of any dishwasher with a 208 volt supply. This change has no other effect on testing or rating. As a result, DOE grants Miele's application for interim waiver. Therefore, Miele shall be required to test its dishwasher model G7856-208V according to the existing DOE test procedure at 10 CFR 430, subpart B, appendix C, with the modification set forth below:

Under appendix C, add the following section 2.2.3:

2.2.3 Dishwashers that operate with an electrical supply of 208 volts. Maintain the electrical supply to the dishwasher at 208 volts ±2 percent and within 1 percent of its nameplate frequency as specified by the manufacturer.

DOE makes decisions on waivers and interim waivers for only those models specifically set out in the petition, not future models that may be manufactured by the petitioner. Miele may submit a new or amended petition for waiver and request for grant of interim waiver, as appropriate, for additional models of dishwashers for which it seeks a waiver from the DOE test procedure. Grant of an interim waiver does not release a petitioner from the certification requirements set forth at 10 CFR part 429.

IV. Summary and Request for Comments

Through today's notice, DOE announces receipt of Miele's petition for waiver from certain parts of the test procedure that apply to dishwashers. DOE is publishing Miele's petition for waiver in its entirety pursuant to 10 CFR part 430.27(b)(1)(iv). The petition contains no confidential information. The petition includes a suggested alternate test procedure which is to include a provision for a 208 volt electrical supply voltage.

DOE solicits comments from interested parties on all aspects of the petition. Pursuant to 10 CFR 430.27(b)(1)(iv), any person submitting written comments to DOE must also send a copy of such comments to the petitioner. The contact information for the petitioner is Mr. Steve Polinski, Senior Manager Regulatory Affairs, Miele Incorporated, 9 Independence Way, Princeton, NJ 08540. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Issued in Washington, DC, on October 11, 2011.
Kathleen Hogan,
Deputy Assistant Secretary for Energy Efficiency, Office of Technology Development, Energy Efficiency and Renewable Energy.

August 4, 2011

The Honorable Catherine Zoi

Assistant Secretary, Energy Efficiency and Renewable Energy

U.S. Department of Energy

Maile Station EE-10

1000 Independence Avenue, SW.,

Washington, DC 20585

Re: Application for Interim Waiver and Petition for Waiver, 10 CFR 430 Subpart B, Appendix C—Uniform Test Method for Measuring Energy Consumption of Dishwashers

Dear Assisant Secretary Zoi,

Miele Inc is submitting this Application for Interim Waiver and Petition for Waiver of the Department of Energy's Test procedure pursuant to 10 CFR 430.27, to the Department of Energy concerning the test procedure found in 10 CFR 430, Subpart B, Appendix C for measuring energy consumption of dishwashers specifically the Miele G7856-208V.

The request for this waiver is focused on the testing voltages specified in the existing test procedure found in Section 2.2.

2.2.1 Dishwashers that operate with an electrical supply of 115 volts. Maintain the electrical supply to the dishwasher at 115 Volts ±2 percent and within 1 percent of the nameplate frequency as specified by the manufacturer.

2.2.2 Dishwashers that operate with an electrical supply of 240 Volts. Maintain the electrical supply to the dishwasher at 240 volts ±2 percent and within 1 percent of its nameplate frequency as specified by the manufacturer.

Currently there is no provision to test dishwashers at 208 Volts.

There are many instances where only 208 Volts is provided to the consumer. Dishwashers rated at 240 Volts would not allow the proper operation of a dishwasher when connected to a 208 Volt supply. To achieve the data plate rating, appropriate voltage components are used in the design of the 208 Volt dishwashers.

The proposed test procedure would allow for a variation in electrical supply voltage to 208 Volts based on the electrical safety test data plate rating. In the case of the G7856-208V, a rating of 208 Volts ±2 percent and within 1 percent of its nameplate frequency as specified by the manufacturer would be used to perform the energy test.

Miele requests immediate relief by grant of the proposed interim waiver, justified by the following reasons:

Economic Hardship. Since the Miele 208V dishwasher is intended to be sold in applications where 240Volts is not made available to the consumer, denial of this Application for Interim Waiver and Petition for Waiver would eliminate the possibility of high performance dishwasher sales where a compatible voltage is not present.

Public Policy Merits. The public policy benefits of encouraging business success and fostering innovation in high performance dishwasher design are additional reasons for prompt approval of the requested interim waiver.

We hereby certify that all dishwasher manufacturers of domestically-marketed units known to Miele Appliances, Inc. have been notified by letter of this application, copies of which are attached

Thank you for your timely attention to this Application for Interim Waiver and Petition for Waiver.

Best regards,

Steve Polinski

Senior Manager Regulatory Affairs

Miele Incorporated

9 Independence Way

Princeton, New Jersey 08540

SPolinski@MieleUSA.com

Phone: 609 419 9898

[FR Doc. 2011-26884 Filed 10-17-11; 8:45 am]

BILLING CODE 6450-01-P